DEPARTMENT OF HEALTH AND HUMAN SERVICES

Centers for Disease Control and Prevention

[30Day-04-0636]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

State-based Evaluation of the Alert Notification Component of CDC's Epidemic Information Exchange (Epi-X) Secure Public Health Communications Network (OMB No. 0920-0636)—Extension—Epidemiology Program Office (EPO), Centers for Disease Control and Prevention (CDC).

Great attention has been focused on improving secure public health communications networks for the dissemination of critical disease outbreak and/or bioterrorism-related events, which may have multi-jurisdictional involvement and cause disease and death within a short time-frame. A central component of the mission of the CDC's Epidemiology Program Office (EPO) is to strengthen the nation's public health infrastructure by coordinating public health surveillance at CDC and providing domestic and international support through scientific communications and terrorism preparedness and emergency response. The Office of Scientific and Health Communication's Epidemic Information Exchange (Epi-X) provides CDC and its state and local partners and collaborators with a secure public health communications network intended for routine and emergent information exchange in a secure environment.

The purpose of the information gathered during this notification proficiency testing exercise is to evaluate the extent to which new registrants and currently authorized users of the Epidemic Information Exchange (Epi-X) are able to utilize alert notification functionality to minimize or prevent unnecessary injury or disease-related morbidity and mortality through the use of secure communications and rapid notification systems. In this case, notification alerts would be sent to targeted public health professionals through a “barrage” of office cell phone, home telephone, and pager calls to rapidly inform key health authorities from multidisciplinary backgrounds and multiple jurisdictions of evolving and critical public health information, and assist with the decision-making process. Presently, the necessity of this evaluation process is timely because of ongoing terrorism threats and acts perpetrated worldwide.

The survey information will be gathered through an online questionnaire format. The survey will help evaluate user comprehension solely with the targeted notification and rapid alerting functionalities of Epi-X. The questionnaire will consist of both closed- and open-ended items and will be administered through Zoomerang, an online questionnaire program, or as a last resort, by telephone. Approximately 6,000 Epi-X users from every state of the union will be asked to volunteer input (in a 5-10 question format) about their experiences using the alert notification functionalities of the Epi-X communications system. The estimated annualized burden is 167 hours.

Respondents | No. of respondents | No. of responses per respondent | Average burden per response (in hrs)
States | 1000 | 1 | 10/60

Dated: October 8, 2004.
Alvin Hall,
Director, Management Analysis and Services Office, Centers for Disease Control and Prevention.

[FR Doc. 04-23149 Filed 10-14-04; 8:45 am]

BILLING CODE 4163-18-P